DEPARTMENT OF HOMELAND SECURITY

Coast Guard

33 CFR Part 100

[Docket No. USCG-2023-0809]

Special Local Regulations; Marine Events Within the Eleventh Coast Guard District-San Diego Fleet Week Veterans Day Boat Parade.

AGENCY: Coast Guard, DHS.

ACTION: Notification of enforcement of regulation.

SUMMARY: The Coast Guard will enforce the special local regulations on the waters of San Diego Bay, CA, during the San Diego Fleet Week Veterans Day Boat Parade on November 12, 2023. This special local regulation is necessary to provide for the safety of the participants, crew, sponsor vessels of the event, and general users of the waterway. During the enforcement periods, the operator of any vessel in the regulated area must comply with directions from the Patrol Commander or any Official Patrol displaying a Coast Guard ensign.

DATES: The regulations in 33 CFR 100.1101 for the location described in Item No. 17 in table 1 to § 100.1101, will be enforced from 8:30 a.m. until noon on November 12, 2023.

FOR FURTHER INFORMATION CONTACT: If you have questions about this notification of enforcement, call or email Lieutenant Junior Grade Shelley Turner, Waterways Management, U.S. Coast Guard Sector San Diego, CA; telephone (619) 278-7656, email MarineEventsSD@uscg.mil.

SUPPLEMENTARY INFORMATION: The Coast Guard will enforce the special local regulations in 33 CFR 100.1101 for the location identified in Item No. 17 in table 1 to § 100.1101, from 8:30 a.m. until noon on November 12, 2023, for the San Diego Fleet Week Veterans Day Boat Parade in San Diego Bay, CA. This action is being taken to provide for the safety of life on the navigable waterways during the event. Our regulation for recurring marine events in the San Diego Captain of the Port Zone, § 100.1101, Item No. 17 in table 1 to § 100.1101, specifies the location of the regulated area for the San Diego Fleet Week Veterans Day Boat Parade, which encompasses portions of San Diego Bay. Under the provisions of § 100.1101, persons and vessels are prohibited from entering into, transiting through, or anchoring within this regulated area unless authorized by the Captain of the Port, or his designated representative. The Coast Guard may be assisted by other Federal, State, or local law enforcement agencies in enforcing this regulation.

In addition to this document in the Federal Register, the Coast Guard will provide the maritime community with advance notification of this enforcement period via Local Notice to Mariners and marine information broadcasts.

Dated: October 10, 2023.
J.W. Spitler,
Captain, U.S. Coast Guard, Captain of the Port Sector San Diego.

[FR Doc. 2023-22882 Filed 10-16-23; 8:45 am]

BILLING CODE 9110-04-P